DEPARTMENT OF HOMELAND SECURITY

Federal Emergency Management Agency

[Docket ID FEMA-2017-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of December 21, 2017 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the date indicated above.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: October 13, 2017.
Roy E. Wright,
Deputy Associate Administrator for Insurance and Mitigation, Department of Homeland Security, Federal Emergency Management Agency.

I. Watershed-based studies:

Community | Community map repository address
Lower Kentucky Watershed
Anderson County, Kentucky and Incorporated Areas
Docket No.: FEMA-B-1638
City of Lawrenceburg | City Hall, 100 North Main Street, Lawrenceburg, KY 40342.
Unincorporated Areas of Anderson County | Anderson County Planning and Zoning Office, 139 South Main Street, Lawrenceburg, KY 40342.
Carroll County, Kentucky and Incorporated Areas
Docket No.: FEMA-B-1638
City of Carrollton | Carroll County Emergency Operations Center, 829 Polk Street, Carrollton, KY 41008.
City of Prestonville | Carroll County Emergency Operations Center, 829 Polk Street, Carrollton, KY 41008.
City of Worthville | Carroll County Emergency Operations Center, 829 Polk Street, Carrollton, KY 41008.
Unincorporated Areas of Carroll County | Carroll County Emergency Operations Center, 829 Polk Street, Carrollton, KY 41008.
Clark County, Kentucky and Incorporated Areas
Docket No.: FEMA-B-1638
Unincorporated Areas of Clark County | Clark County Courthouse, 34 South Main Street, Winchester, KY 40391.
Franklin County, Kentucky and Incorporated Areas
Docket No.: FEMA-B-1638
City of Frankfort | Planning and Building Codes Department, 315 West 2nd Street, Frankfort, KY 40601.
Unincorporated Areas of Franklin County | Franklin County Fiscal Court, 321 West Main Street, Frankfort, KY 40601.
Garrard County, Kentucky and Incorporated Areas
Docket No.: FEMA-B-1638
Unincorporated Areas of Garrard County | Garrard County Courthouse, 15 Public Square, Lancaster, KY 40444.
Henry County, Kentucky and Incorporated Areas
Docket No.: FEMA-B-1638
Unincorporated Areas of Henry County | Henry County Courthouse Annex, 19 South Property Road, New Castle, KY 40050.
Jessamine County, Kentucky and Incorporated Areas
Docket No.: FEMA-B-1638
City of Nicholasville | City Hall, 517 North Main Street, Nicholasville, KY 40356.
City of Wilmore | City Hall, 335 East Main Street, Wilmore, KY 40390.
Unincorporated Areas of Jessamine County | Jessamine County Courthouse, 101 North Main Street, Nicholasville, KY 40356.
Lexington-Fayette Urban County Government, Kentucky (All Jurisdictions)
Docket No.: FEMA-B-1638
Lexington-Fayette Urban County Government | Lexington-Fayette Urban County Government Center, 200 East Main Street, 12th Floor, Lexington, KY 40507.
Madison County, Kentucky and Incorporated Areas
Docket No.: FEMA-B-1638
City of Berea | City Hall, 212 Chestnut Street, Berea, KY 40403.
City of Richmond | City Hall, 239 West Main Street, Richmond, KY 40475.
Unincorporated Areas of Madison County | Madison County Courthouse, 101 West Main Street, Richmond, KY 40475.
Mercer County, Kentucky and Incorporated Areas
Docket No.: FEMA-B-1638
Unincorporated Areas of Mercer County | The Greater Harrodsburg/Mercer County Planning and Zoning Commission, 109 Short Street, Harrodsburg, KY 40330.
Owen County, Kentucky and Incorporated Areas
Docket No.: FEMA-B-1638
City of Gratz | City Hall, 583 Crittenden Street, Gratz, KY 40359.
City of Monterey | City Hall, 35 Worth Street, Monterey, KY 40359.
Unincorporated Areas of Owen County | Owen County Courthouse, 100 North Thomas Street, Owenton, KY 40359.
Scott County, Kentucky and Incorporated Areas
Docket No.: FEMA-B-1638
City of Georgetown | Georgetown-Scott County Planning Commission, 230 East Main Street, Georgetown, KY 40324.
Unincorporated Areas of Scott County | Georgetown-Scott County Planning Commission, 230 East Main Street, Georgetown, KY 40324.
Woodford County, Kentucky and Incorporated Areas
Docket No.: FEMA-B-1638
City of Midway | City Hall, 101 East Main Street, Midway, KY 40347.
City of Versailles | City Hall, 196 South Main Street, Versailles, KY 40383.
Unincorporated Areas of Woodford County | Woodford County Courthouse, 103 South Main Street, Versailles, KY 40383.
Mississippi Coastal Watershed
Harrison County, Mississippi and Incorporated Areas
Docket No.: FEMA-B-1623
City of Biloxi | Community Development Building, 676 Dr. Martin Luther King, Jr. Boulevard, Biloxi, MS 39530.
City of Gulfport | William K. Hardy Building, 1410 24th Avenue, Gulfport, MS 39501.
Unincorporated Areas of Harrison County | Harrison County Code Administration, 15309 Community Road, Gulfport, MS 39503.
Jackson County, Mississippi and Incorporated Areas
Docket No.: FEMA-B-1623
City of Gautier | City Hall, 3330 Highway 90, Gautier, MS 39553.
Unincorporated Areas of Jackson County | Jackson County Planning Department, 2915 Canty Street, Suite Q, Pascagoula, MS 39567.
Seneca Watershed
Anderson County, South Carolina and Incorporated Areas
Docket No.: FEMA-B-1631
City of Anderson | Public Works Building, 1100 Southwood Street, Anderson, SC 29624.
Town of Pendleton | Town Municipal Complex, 310 Greenville Street, Pendleton, SC 29670.
Unincorporated Areas of Anderson County | Anderson County Department of Development Standards, 401 East River Street, Anderson, SC 29624.
Oconee County, South Carolina and Incorporated Areas
Docket No.: FEMA-B-1631
City of Seneca | City Hall, 221 East North 1st Street, Lower Floor, Seneca, SC 29678.
Unincorporated Areas of Oconee County | Oconee County Council Chambers, Administration Office Building, 415 South Pine Street, Walhalla, SC 29691.
Pickens County, South Carolina and Incorporated Areas
Docket No.: FEMA-B-1631
City of Clemson | City Hall, 1250 Tiger Boulevard, Clemson, SC 29631.
Unincorporated Areas of Pickens County | Pickens County Building Codes Administration, 222 McDaniel Avenue, B-10, Pickens, SC 29671.
San Bernard Watershed
Fort Bend County, Texas and Incorporated Areas
Docket No.: FEMA-B-1601
City of Kendleton | City Hall, 430 Farm Market 2919, Kendleton, TX 77451.
Unincorporated Areas of Fort Bend County | Fort Bend County Drainage District, 1124 Blume Road, Rosenberg, TX 77471.
Wharton County, Texas and Incorporated Areas
Docket No.: FEMA-B-1601
City of East Bernard | City Hall, 704 Church Street, East Bernard, TX 77435.
City of Wharton | City Hall, 120 East Caney Street, Wharton, TX 77488.
Unincorporated Areas of Wharton County | Wharton County Courthouse Annex, 315 East Milam Street, Suite 102, Wharton, TX 77488.

II. Non-watershed-based studies:

Community | Community map repository address
Camden County, Georgia and Incorporated Areas
Docket No.: FEMA-B-1642
City of Kingsland | City Hall, 107 South Lee Street, Kingsland, GA 31548.
City of St. Marys | Community Development Department, 418 Osborne Street, St. Marys, GA 31558.
City of Woodbine | City Hall, 310 Bedell Avenue, Woodbine, GA 31569.
Unincorporated Areas of Camden County | Camden County Planning and Development Department, 107 Gross Road, Suite 3, Kingsland, GA 31548.
Effingham County, Georgia and Incorporated Areas
Docket No.: FEMA-B-1642
City of Rincon | City Hall, Building and Zoning Department, 302 South Columbia Avenue, Rincon, GA 31326.
Unincorporated Areas of Effingham County | Effingham County Courthouse, GIS Department, 901 North Pine Street, Suite 206, Springfield, GA 31329.
St. Bernard Parish, Louisiana (All Jurisdictions)
Docket Nos.: FEMA-B-1301 and FEMA-B-1615
Unincorporated Areas of St. Bernard Parish | St. Bernard Parish Community Development Office, 8201 West Judge Perez Drive, Chalmette, LA 70043.
Colleton County, South Carolina and Incorporated Areas
Docket No.: FEMA-B-1617
City of Walterboro | City Hall, 242 Hampton Street, Walterboro, SC 29488.
Town of Cottageville | Municipal Complex, 72 Salley Ackerman Drive, Cottageville, SC 29435.
Town of Edisto Beach | Town Hall, 2414 Murray Street, Edisto Beach, SC 29438.
Town of Smoaks | Town Hall, 176 New Street, Smoaks, SC 29481.
Town of Williams | Office of the Clerk, 143 Supply Road, Williams, SC 29493.
Unincorporated Areas of Colleton County | Colleton County Building Code Administration, 31 Klein Street, 3rd Floor Harrelson Building, Walterboro, SC 29488.
Richland County, South Carolina and Incorporated Areas
Docket No.: FEMA-B-1523
City of Cayce | City Hall, 1800 12th Street, Cayce, SC 29033.
City of Columbia | Department of Utilities and Engineering, 1136 Washington Street, Columbia, SC 29201.
City of Forest Acres | City Hall, 5209 North Trenholm Road, Forest Acres, SC 29206.
Town of Arcadia Lakes | Arcadia Lakes Town Hall, 6911 North Trenholm Road, Suite 2, Columbia, SC 29206.
Town of Blythewood | Town Hall, 171 Langford Road, Blythewood, SC 29016.
Town of Eastover | Town Hall, 624 Main Street, Eastover, SC 29044.
Town of Irmo | Town Hall, 7300 Woodrow Street, Irmo, SC 29063.
Unincorporated Areas of Richland County | Richland County Department of Public Works, 400 Powell Road, Columbia, SC 29203.
Bowie County, Texas and Incorporated Areas
Docket No.: FEMA-B-1623
City of Nash | City Hall, 119 Elm Street, Nash, TX 75569.
City of Texarkana | Public Works Department, 919 Elm Street, Texarkana, TX 75501.
City of Wake Village | City Hall, 624 Burma Road, Wake Village, TX 75501.
Unincorporated Areas of Bowie County | Bowie County Courthouse, 710 James Bowie Drive, New Boston, TX 75570.

[FR Doc. 2017-23163 Filed 10-24-17; 8:45 am]

BILLING CODE 9110-12-P